Title 3—

The President

Memorandum of June 8, 2022

Delegation of Authority Under the European Energy Security and Diversification Act of 2019

Memorandum for the Secretary of State

By the authority vested in me as President by the Constitution and the laws of the United States of America, including section 301 of title 3, United States Code, I hereby delegate to the Secretary of State the functions and authorities vested in the President by section 2004(e)(1)(C) of the European Energy Security and Diversification Act of 2019 (22 U.S.C. 9563(e)(1)(C)) (the “Act”). The delegation in this memorandum shall apply to any provision of any future public law that is the same or substantially the same as the provision referenced in this memorandum. Any reference in this memorandum to the Act shall be deemed to be a reference to such Act as amended from time to time.

You are authorized and directed to publish this memorandum in the Federal Register.

THE WHITE HOUSE,

Washington, June 8, 2022

[FR Doc. 2022-12892

Filed 6-13-22; 8:45 am]

Billing code 4710-10-P